DEPARTMENT OF TRANSPORTATION

National Highway Traffic Safety Administration

Denial of Motor Vehicle Defect Petition

AGENCY: National Highway Traffic Safety Administration (NHTSA), DOT.

ACTION: Denial of petition for a defect investigation.

SUMMARY: This notice sets forth the reasons for the denial of a petition submitted by Mr. William H. Muzzy III, dated January 23, 2001, to NHTSA under 49 U.S.C. 30162, requesting that the agency commence a proceeding to determine the existence of a defect related to motor vehicle safety in model year 1990 through 1995 Toyota 4Runner vehicles. After a review of the petition and other information, NHTSA has concluded that further expenditure of the agency's investigative resources on the issues raised by the petition does not appear to be warranted. The agency accordingly has denied the petition. The petition is hereinafter identified as DP02-002.

FOR FURTHER INFORMATION CONTACT: Mr. Jonathan White, Chief, Defect and Recall Information Analysis Division, Office of Defects Investigation (ODI), NHTSA, 400 Seventh Street, SW., Washington, DC 20590. Telephone: (202) 366-5226.

SUPPLEMENTARY INFORMATION: By letter dated January 23, 2001, Mr. William H. Muzzy III, submitted a petition requesting that the agency investigate the rear seat belt routing in model year (MY) 1990 through 1995 Toyota 4Runner vehicles (subject vehicles). The petitioner alleges that when the second row (rear) seat is folded down and then placed in its upright position, the outboard seat belt webbings can become caught behind the folding seat back latches. When this occurs, the seat belt routing is no longer proper, and occupant(s) using the seat belts in this condition would not be properly restrained. The petitioner alleges this seat belt misrouting condition has resulted in a serious injury and a fatality for the rear seat occupants of a subject vehicle that was in an accident. Finally, the petitioner alleges that the warning labels near the rear seat and the warning in the owner's manual for misrouting of rear seat belts are inadequate.

In response to ODI's information request letter, Toyota Motor North America, Inc. (Toyota), indicated that it has received one complaint of a damaged rear outboard seat belt because of possible contact with the rear seat back striker. Also, there has been one lawsuit filed against Toyota involving the aforementioned accident. ODI has not received any other reports of similar seat belt misrouting on the subject vehicles.

Considering the fact that over 367,000 subject vehicles were produced and the average vehicle age is about 10 years, the probability for the aforementioned rear seat outboard seat belt misrouting condition to occur, go unnoticed, and subsequently result in an injury and/or a fatality is extremely low. Further, warning notices to prevent seat belt misrouting are near the rear seat and in the owner's manual.

In view of the foregoing, it is unlikely that NHTSA would issue an order for the notification and remedy of the alleged defect as defined by the petitioner at the conclusion of the investigation requested in the petition. Therefore, in view of the need to allocate and prioritize NHTSA's limited resources to best accomplish the agency's safety mission, the petition is denied.

Authority: 49 U.S.C. 30162(d); delegations of authority at CFR 1.50 and 501.8.

Issued on: August 16, 2002.
Kenneth N. Weinstein,
Associate Administrator for Safety Assurance.

[FR Doc. 02-21574 Filed 8-22-02; 8:45 am]

BILLING CODE 4910-59-P